DEPARTMENT OF AGRICULTURE

Forest Service

RIN 0596-AC34

National Environmental Policy Act Documentation Needed for Oil and Gas Exploration and Development Activities (Categorical Exclusion)

Correction

In notice document 05-23983 beginning on page 73722 in the issue of Tuesday, December 13, 2005, make the following correction:

On page 73722, in the second column, under the DATES heading, “February 13, 2005” should read “February 13, 2006”.

[FR Doc. C5-23983 Filed 1-23-06; 8:45 am]

BILLING CODE 1505-01-D

DEPARTMENT OF DEFENSE

Department of the Army; Corps of Engineers

Intent to Prepare a Draft Supplemental Environmental Impact Statement/Environmental Impact Report for the Yuba River Basin Project, Yuba County, CA

Correction

In notice document 06-483 beginning on page 3060 in the issue of Thursday, January 19, 2006, make the following correction:

On page 3060, in the second column, under the FOR FURTHER INFORMATION CONTACT heading, in the third line, “Robert.L.Roenigs” should read “Robert.L.Koenigs”.

[FR Doc. C6-483 Filed 1-23-06; 8:45 am]

BILLING CODE 1505-01-D

DEPARTMENT OF DEFENSE

Department of the Army

Notice of Availability (NOA) for the Supplemental Final Environmental Impact Statement (SFEIS) for the Proposed Addition of Maneuver Training Land at Fort Irwin, CA

Correction

In notice document 06-475 appearing on page 3059 in the issue of Thursday, January 19, 2006, make the following correction:

In the second column, in the last paragraph, in the 2nd and 3rd lines, “http://fortirwindlandexpansion.com” should read “http://fortirwinlandexpansion.com. ”

[FR Doc. C6-475 Filed 1-23-06; 8:45 am]

BILLING CODE 1505-01-D